DEPARTMENT OF HOUSING AND URBAN DEVELOPMENT

[Docket No. FR-4730-N-29]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be the excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Ms. Barbara Jenkins, Air Force Real Estate Agency, (Area-MI), Bolling Air Force Base, 112 Luke Avenue, Suite 104, Building 5683, Washington, DC 20332-8020; (202) 767-4184; DOT: Mr. Rugene Spruill, Principal, Space Management, SVC-140, Transportation Administrative Service Center, Department of Transportation, 400 7th Street, SW., Room 2310, Washington, DC 20590; (202) 366-4246; ENERGY: Mr. Tom Knox, Department of Energy, Office of Engineering & Construction Management, CR-80, Washington, DC 20585; (202) 586-8715; GSA: Mr. Brian K. Polly, Assistant Commissioner, General Services Administration, Office of Property Disposal, 18th and F Streets, NW., Washington, DC 20405; (202) 501-0052; NAVY: Mr. Charles C. Cocks, Director, Department of the Navy, Real Estate Policy Division, Naval Facilities Engineering Command, Washington Navy Yard, 1322 Patterson Ave., SE., Suite 1000, Washington, DC 20374-5065; (202) 685-9200; (These are not toll-free numbers)

Dated: July 11, 2002.
Mark R. Johnson,
Deputy Director, Office of Special Needs Assistance Programs.

TITLE V. FEDERAL SURPLUS PROPERTY PROGRAM FEDERAL REGISTER REPORT FOR 7/19/02

Suitable/Available Properties

Buildings (by State)

Alabama

Coosa River Storage Annex

Anniston Army Depot

Talladega Co: AL 35161-

Landholding Agency: GSA

Property Number: 54200230001

Status: Excess

Comment: 136 Storage igloos, two cemeteries, sentry bldg., ofc. bldg., admin. bldg. in poor condition on 2834 acres

GSA Number: 4-J-AL-541

Guam

6 Bldgs.

NCTS Radio Barrigada

Wenger Way

Marianas Co: GU

Location: #101, 103, 105, 107, 109, 111

Landholding Agency: Navy

Property Number: 77200230017

Status: Excess

Comment: 11,476 sq. ft. housing units, need major rehab

Pennsylvania

Bristol Social Security Bldg.

1776 Farragut St.

Bristol Co: Bucks PA 19007-

Landholding Agency: GSA

Property Number: 54200230002

Status: Surplus

Comment: 7569 sq. ft., most recent use—office

GSA Number: 4-G-PA-792

Suitable/Unavailable Properties

Buildings (by State)

Colorado

Bldg. 100

La Junta Strategic Range

La Junta Co: Otero CO 81050-9501

Landholding Agency: Air Force

Property Number: 18200230001

Status: Excess

Comment: 7760 sq. ft., most recent use—admin/electronic equip. maintenance

Bldg. 101

La Junta Strategic Range

Landholding Agency: Air Force

Property Number: 18200230002

Status: Excess

Comment: 336 sq. ft., most recent use—storage

Bldg. 102

La Junta Strategic Range

Landholding Agency: Air Force

Property Number: 18200230003

Status: Excess

Comment: 1056 sq. ft., most recent use—storage

Colorado

Bldg. 103

La Junta Strategic Range

La Junta Co: Otero CO 81050-9501

Landholding Agency: Air Force

Property Number: 18200230004

Status: Excess

Comment: 784 sq. ft., most recent use—storage

Bldg. 104

La Junta Strategic Range

La Junta Co: Otero CO 81050-9501

Landholding Agency: Air Force

Property Number: 18200230005

Status: Excess

Comment: 312 sq. ft., most recent use—storage

Bldg. 106

La Junta Strategic Range

La Junta Co: Otero CO 81050-9501

Landholding Agency: Air Force

Property Number: 18200230006

Status: Excess

Comment: 100 sq. ft., most recent use—storage

Unsuitable Properties

Buildings (by State)

California

Bldg. 3273

Naval Base

San Diego Co: CA

Landholding Agency: Navy

Property Number: 77200230002

Status: Excess

Reason: Extensive deterioration

Bldg. 25

Naval Base Coronado

San Diego Co: CA

Landholding Agency: Navy

Property Number: 77200230003

Status: Excess

Reason: Extensive deterioration

Bldg. 338

Naval Base Coronado

San Diego Co: CA

Landholding Agency: Navy

Property Number: 77200230004

Status: Excess

Reason: Extensive deterioration

Bldg. 607

Naval Base Coronado

San Diego Co: CA

Landholding Agency: Navy

Property Number: 77200230005

Status: Excess

Reason: Extensive deterioration

Bldg. 609

Naval Base Coronado

San Diego Co: CA

Landholding Agency: Navy

Property Number: 77200230006

Status: Excess

Reason: Extensive deterioration

Bldg. 691

Naval Base Coronado

San Diego Co: CA

Landholding Agency: Navy

Property Number: 77200230007

Status: Excess

Reason: Extensive deterioration

Hawaii

Facility 9

Fleet Industrial Supply

Waipahu Co: HI 96797-

Landholding Agency: Navy

Property Number: 77200230008

Status: Excess

Reasons: Secured Area Extensive deterioration

Facility 4

NCTAMS PAC

Wahiawa Co: HI 96786-

Landholding Agency: Navy

Property Number: 77200230009

Status: Excess

Reason: Secured Area

Facility 88

NCTAMS PAC

Wahiawa Co: HI 96786-

Landholding Agency: Navy

Property Number: 77200230010

Status: Excess

Reason: Secured Area

Landholding Agency: DOT

Facility 295

NCTAMS PAC

Wahiawa Co: HI 96786-

Landholding Agency: Navy

Property Number: 77200230011

Status: Excess

Reason: Secured Area

18 Bldgs.

Hale Moku Pearl Harbor

113-117, 119-122, 200-208

Honolulu Co: HI 96818-

Landholding Agency: Navy

Property Number: 77200230012

Status: Excess

Reason: Extensive deterioration

Bldg. RPFN No2

Coast Guard ISC

Honolulu Co: HI 96819-

Property Number: 87200230001

Status: Unutilized

Reason: Secured Area

Bldg. RPFN No3

Coast Guard ISC

Honolulu Co: HI 96819-

Landholding Agency: DOT

Property Number: 87200230002

Status: Unutilized

Reason: Secured Area

Bldg. RPFN No4

Coast Guard ISC

Honolulu Co: HI 96819-

Landholding Agency: DOT

Property Number: 872300230003

Status: Unutilized

Reason: Secured Area

Bldg. RPFN No9

Coast Guard ISC

Honolulu Co: HI 96819-

Landholding Agency: DOT

Property Number: 87200230004

Status: Unutilized

Reason: Secured Area

Bldg. RPFN P11

Coast Guard ISC

Honolulu Co: HI 96819-

Landholding Agency: DOT

Property Number: 87200230005

Status: Unutilized

Reason: Secured Area

Bldg. RPFN N13

Coast Guard ISC

Honolulu Co: HI 96819-

Landholding Agency: DOT

Property Number: 87200230006

Status: Unutilized

Reason: Secured Area

Bldg. RPFN W14

Coast Guard ISC

Honolulu Co: HI 96819-

Landholding Agency: DOT

Property Number: 87200230007

Status: Unutilized

Reason: Secured Area

Bldg. RPFN W15

Coast Board ISC

Honolulu Co: HI 96819-

Landholding Agency: DOT

Property Number: 87200230008

Status: Unutilized

Reason: Secured Area

Bldg. RPFN W16

Coast Board ISC

Honolulu Co: HI 96819-

Landholding Agency: DOT

Property Number: 87200230009

Status: Unutilized

Reason: Secured Area

Maryland

Structure 145

Naval Surface Warfare Center

W. Bethesda Co: MD 20817-

Landholding Agency: Navy

Property Number: 77200230013

Status: Underutilized

Reason: Secured Area

New Mexico

6 Bldgs.

Kirtland Air Force Base

#852, 874, 9939A, 6536, 6636, 833A

Albuquerque Co: NM 87185-

Landholding Agency: Energy

Property Number: 41200230001

Status: Excess

Reason: Secured Area

Tenessee

Bldg. 9720-14

Y-12 National Security Complex

Oak Ridge Co: Anderson TN 37831-

Landholding Agency: Energy

Property Number: 41200230002

Status: Excess

Reason: Secured Area

6 Bldgs.

Y-12 National Security Complex

Oak Ridge Co: Anderson TN 37831-

Location: 9983-62, 9983-63, 9983-64, 9983-65, 9983-71, 9983-72

Landholding Agency: Energy

Property Number: 41200230003

Status: Excess

Reason: Secured Area

Virginia

Bldg. 2250

Marine Corps Base

Quantico Co: VA 22134-

Landholding Agency: Navy

Property Number: 77200230014

Status: Excess

Reason: Extensive deterioration

Bldg. 819

Marine Corps Base

Geiger Ridge

Quantico Co: VA 22134-

Landholding Agency: Navy

Property Number: 77200230015

Status: Excess

Reason: Extensive deterioration

Bldg. B-2108

Marine Corps Base

Quantico Co: VA 22134-

Landholding Agency: Navy

Property Number: 77200230016

Status: Excess

Reason: Extensive deterioration

Land (by State)

California

CB Rifle Range

Point Mugu Co: Ventura CA 93042-5000

Landholding Agency: Navy

Property Number: 77200230001

Status: Underutilized

Reasons: Within 2000 ft. of flammable or explosive material Secured Area

[FR Doc. 02-17927 Filed 7-18-02; 8:45 am]

BILLING CODE 4210-29-M